DEPARTMENT OF DEFENSE

Department of the Army

32 CFR Part 516

[Docket ID: USA-2025-HQ-0002]

RIN 0702-AB14

Litigation; Amendment

AGENCY: Department of the Army, Department of Defense (DoD).

ACTION: Final rule.

SUMMARY: In accordance with the Executive Order titled “Defending Women from Gender Ideology Extremism and Restoring Biological Truth to the Federal Government,” this amendment rule removes text in this CFR part that promotes or otherwise inculcates gender ideology. This change is purely administrative.

DATES: This rule is effective August 8, 2025.

FOR FURTHER INFORMATION CONTACT: LTC Ronson P. Honeychurch, Chief, General Litigation Branch, email at: ronson.p.honeychurch.mil@army.mil, or phone number: (703) 693-1079.

SUPPLEMENTARY INFORMATION: In accordance with Executive Order 14168, “Defending Women from Gender Ideology Extremism and Restoring Biological Truth to the Federal Government,” dated January 20, 2025, the Department of the Army is amending this CFR part to remove text that promotes or otherwise inculcates gender ideology. Specifically, it replaces the word “gender” with the word “sex”, consistent with Executive Order 14168, in one sentence of part 516.

It has been determined that publication of this CFR amendment for public comment is unnecessary because the amendment is an administrative change.

This rule is not significant under Executive Order 12866, “Regulatory Planning and Review.” This rule is not an Executive Order 14192 regulatory action, because this rule is not significant under Executive Order 12866.

List of Subjects in 32 CFR Part 516

Administrative practice and procedure, Claims, Courts, Federal buildings and facilities, Fraud, Government employees, Health care, Intergovernmental relations, Lawyers.

Accordingly, 32 CFR part 516 is amended to read as follows:

PART 516—LITIGATION

1. The authority citation for 32 CFR part 516 continues to read as follows:

Authority: 5 U.S.C. 552; 10 U.S.C. 218, 1037, 1089, 1552, 1553, 2036; 18 U.S.C. 219, 3401; 28 U.S.C. 50, 513, 515, 543; 31 U.S.C. 3729 and 41 U.S.C. 51; 42 U.S.C. 290, 2651; 43 U.S.C. 666.

2. Amend § 516.3 by revising paragraph (b) to read as follows:

§ 516.3 Explanation of abbreviations and terms.

* * * * *

(b) The masculine sex has been used throughout this regulation for simplicity and consistency. Any reference to the masculine sex is intended to include women.

James W. Satterwhite Jr.,
Army Federal Register Liaison Officer.

[FR Doc. 2025-15081 Filed 8-7-25; 8:45 am]

BILLING CODE 3711-CC-P